DEPARTMENT OF TRANSPORTATION

Federal Highway Administration

[Docket No. FHWA-2012-0051]

Agency Information Collection Activities: Request for Comments for a New Information Collection

AGENCY: Federal Highway Administration (FHWA), DOT.

ACTION: Notice and request for comments.

SUMMARY: FHWA invites public comments about our intention to request the Office of Management and Budget's (OMB) approval for a new information collection, which is summarized below under SUPPLEMENTARY INFORMATION. We are required to publish this notice in the Federal Register by the Paperwork Reduction Act of 1995.

DATES: Please submit comments by August 27, 2012.

ADDRESSES: You may submit comments identified by DOT Docket ID 2012-0051 by any of the following methods:

Web Site: For access to the docket to read background documents or comments received; go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Michael Nesbitt (michael.nesbitt@dot.gov), 202-366-1179 Office of Infrastructure, Federal Highway Administration, Department of Transportation, 1200 New Jersey Avenue SE., Washington, DC 20590. Office hours are from 8 a.m. to 5 p.m., Monday through Friday, except Federal holidays.

SUPPLEMENTARY INFORMATION:

Title: Engage@FHWA: Comments, Ratings, Rankings, and Flagging Tools.

Background: This information collection request is for a clearance to fulfill the public feedback aspects of the Engage@FHWA National Dialogue initiative. Visitors to Engage@FHWA National Dialogue Web sites will be provided with opportunities to submit feedback and ratings in the spirit of promoting open government and transparency at FHWA. Examples of feedback mechanisms are:

1. An “agree/disagree”, “vote up/vote down” or other rating system to give visitors information about which posts other visitors find most useful and interesting.

2. A “Contact Us” entry page with an optional contact email address for those visitors wishing to identify themselves.

3. Submit ideas and comments features.

Estimated Burden of Information Collection: This ICR is for a three-year standard clearance of the FHWA comment, rating, ranking and flagging mechanisms, and those used by its program offices implementing the Engage@FHWA intiative.

IC's are included in this package for the following feedback mechanisms:

Comments/Voting/Rating/Ranking/Flagging for Public Support or Disagreement: It is estimated that across the FHWA 14,400 votes/comments/ratings/flags may be submitted annually as offices engage the public in the spirit of open government. Each of the comment/ratings is estimated to take 30 seconds to complete. Therefore, it is estimated that 72000 minutes (120 hours) per year may be expended to submit votes/ratings as agencies engage the public in open government activities.

Public Comments Invited: You are asked to comment on any aspect of this information collection, including: (1) Whether the proposed collection is necessary for the FHWA's performance; (2) the accuracy of the estimated burden; (3) ways for the FHWA to enhance the quality, usefulness, and clarity of the collected information; and (4) ways that the burden could be minimized, including the use of computer technology, without reducing the quality of the collected information. The agency will summarize and/or include your comments in the request for OMB's clearance of this information collection.

Authority: The Paperwork Reduction Act of 1995; 44 U.S.C. Chapter 35, as amended; and 49 CFR 1.48.

Issued on: June 22, 2012.
Steven Smith,
Chief, Information Technology Division.

[FR Doc. 2012-15918 Filed 6-27-12; 8:45 am]

BILLING CODE 4910-22-P